DEPARTMENT OF JUSTICE

Office of Community Oriented Policing Services; FY 2003 Community Policing Discretionary Grants

AGENCY: Office of Community Oriented Policing Services, U.S. Department of Justice.

ACTION: Notice of availability.

SUMMARY: The U.S. Department of Justice, Office of Community Oriented Policing Services (COPS) announces the availability of Universal Hiring Programs (UHP) grants to pay up to 75 percent of the entry-level salary and benefits for newly hired, additional sworn officers over a three year grant term for a total of 36 months, up to a maximum of $75,000 per officer, to initiate or enhance community oriented policing. A minimum 25 percent local match, paid with state or local funds, is required. To qualify for funding, officers must be hired on or after the grant award start date. Funding will begin once the new officers have been hired on or after the date of the award, and will be paid over the course of the grant. At the time of application, applicants must agree to plan for the retention of each COPS-funded UHP position awarded with state, local or other non-COPS funds at the conclusion of federal funding for each position, for a minimum of one full local budget cycle. All policing agencies, as well as jurisdictions seeking to establish new policing agencies, are eligible to apply for this program. Priority consideration will be given to those applications that demonstrate a use of funds related to terrorism preparedness or response through community policing.

DATES: The application deadline for UHP funding is June 6, 2003. All UHP applications must be postmarked by the deadline date. Applications postmarked after the deadline date will not be considered. All grant awards are subject to the availability of funds. In the event that UHP funding requests exceed available grant funds, applications may be considered in subsequent fiscal years, subject to the availability of funds.

ADDRESSES: To obtain a copy of an application or for additional information, call the U.S. Department of Justice Response Center at 1-800-421-6770. The UHP application kit and information on the COPS Office are also available on the Internet via COPS Online at: http://www.cops.usdoj.gov.

SUPPLEMENTARY INFORMATION:

Overview

The Violent Crime Control and Law Enforcement Act of 1994 (Pub. L. 103-322) authorizes the Department of Justice to make grants to increase deployment of law enforcement officers to increase or enhance community policing on the streets and rural routes of this nation. The Universal Hiring Program (UHP) enables interested agencies to supplement their current sworn forces, or interested jurisdictions to establish a new agency, through federal grants for up to three years.

The National Strategy for Homeland Security, the Administration's roadmap for securing the homeland, highlights the key role that state and local governments play in responding to a terrorist attack. Terrorism preparedness and prevention have become key responsibilities for state and local units. As such, while all policing agencies, as well as jurisdictions seeking to establish new policing agencies, are eligible to apply for this program, priority consideration will be given to those applications that demonstrate a use of funds related to terrorism preparedness or response through community policing.

Grants will be made for up to 75 percent of the entry level salary and benefits for each new officer over a three year grant term for a total of 36 months, up to a maximum of $75,000 per officer, with a required minimum of 25 percent local match to be paid with state or local funds. Funding will begin once the new officers have been hired on or after the date of the award, and will be paid over the course of the grant. Officers must be hired on or after the grant award start date to qualify for grant funding.

Waivers of the non-federal matching requirement may be requested under UHP, but will be granted only upon a demonstration of extraordinary fiscal hardship.

COPS grant funds must not be used to replace funds that agencies otherwise would have used to fund an officer in the absence of the grant. In other words, any hiring under UHP must in addition to, and not in lieu of, officers that otherwise would have been hired with state, local or other non-COPS funds. At the time of application, applicants must also agree to plan for the retention of each additional COPS-funded UHP position with state, local or other non-COPS funds at the conclusion of federal funding, for a minimum of one full local budget cycle. The retention requirement cannot be satisfied through attrition.

An award under the COPS Universal Hiring Program will not affect the consideration of an agency's eligibility for a grant under other COPS programs.

The Catalog of Federal Domestic Assistance (CFDA) reference for this program is 16.710.
Dated: April 8, 2003.
Carl R. Peed,
Director, Office of Community Oriented Policing Services.

[FR Doc. 03-9550 Filed 4-17-03; 8:45 am]

BILLING CODE 4410-AT-M